DEPARTMENT OF JUSTICE

Notice of Lodging of Consent Decree Under the Clean Air Act

Pursuant to 28 CFR 50.7, notice is hereby given that on February 16, 2010, a proposed Consent Decree in United States v. Belson Steel Center Scrap, Inc., Civil Action No. 10 C 581, was lodged with the United States District Court for the Northern District of Illinois.

In a civil action filed simultaneously with the Consent Decree, the United States seeks a civil penalty against Belson Steel Center Scrap, Inc. (“Belson”), pursuant to section 113(b) of the Clean Air Act (“CAA”), 42 U.S.C. 7413(b), for alleged environmental violations of 40 CFR 82.156. These violations are alleged to have occurred at Belson's facility located at 1685 N. Route 50, Bourbonnais, Illinois.

Under the proposed settlement, Belson will be required to (1) Acquire chloral floral carbon (“CFC”) removal equipment, (2) have properly trained operators evacuate CFCs from scrap appliances containing refrigerant, (3) maintain a log documenting CFC removal activities, (4) collect verification statements conforming to regulations in cases where Belson accepts appliances that already had CFCs removed, (5) provide periodic reports to EPA regarding its implementation of its oblgations under the decree, and (6) pay a civil penalty of $54,000.

The Department of Justice will receive for a period of thirty (30) days from the date of this publication comments relating to the Consent Decree. Comments should be addressed to the Assistant Attorney General, Environment and Natural Resources Division, and either mailed to pubcomment-ees.enrd@usdoj.gov or mailed to P.O. Box 7611, U.S. Department of Justice, Washington, DC 20044-7611, and should refer to United States v. Belson Steel Center Scrap, Inc., D.J. Ref. 90-5-2-1-09506.

The Consent Decree may be examined at the Office of the United States Attorney, Attn. Kurt N. Lindland, Assistant United States Attorney, 219 S. Dearborn Street, 5th Flr., Chicago, Illinois, and at U.S. EPA Region 5, 77 West Jackson Blvd., 14th Flr., Chicago, Illinois. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $6.25 payable to the U.S. Treasury or, if by e-mail or fax, forward a check in that amount to the Consent Decree Library at the stated address.

Maureen Katz,
Assistant Section Chief, Environmental Enforcement Section, Environment and Natural Resources, Division.

[FR Doc. 2010-3905 Filed 2-25-10; 8:45 am]

BILLING CODE 4410-15-P